DEPARTMENT OF ENERGY

Federal Energy Regulatory Commission

Combined Notice of Filings #1

Take notice that the Commission received the following electric corporate filings:

Docket Numbers: EC21-56-000.

Applicants: Duke Energy Indiana, LLC, GIC Infra Holdings Pte. Ltd.

Description: Response to July 27, 2021 Deficiency Letter of Duke Energy Indiana, LLC et al.

Filed Date: 7/29/21.

Accession Number: 20210729-5136.

Comments Due: 5 p.m. ET 8/19/21.

Take notice that the Commission received the following electric rate filings:

Docket Numbers: ER10-1933-008; ER10-2615-015; ER10-2934-016; ER10-2959-018; ER11-2335-017; ER11-3859-021; ER11-4634-010; ER12-199-017; ER13-321-007; ER14-1699-011; ER15-1456-010; ER15-1457-010; ER15-748-007; ER17-436-009; ER18-920-008; ER19-464-003; ER19-968-004; ER20-464-001.

Applicants: Beaver Falls, L.L.C., Chambers Cogeneration, Limited Partnership, Coram California Development, L.P., Dighton Power, LLC, Fairless Energy, L.L.C., Garrison Energy Center LLC, Greenleaf Energy Unit 2, LLC, Hazleton Generation LLC, Logan Generating Company, L.P., Manchester Street, L.L.C., Marco DM Holdings, L.L.C., Marcus Hook Energy, L.P., Milford Power, LLC, Plum Point Energy Associates, LLC, Plum Point Services Company, LLC, RockGen Energy LLC, Syracuse, L.L.C., Vermillion Power, L.L.C.

Description: Notice of Change in Status of RockGen Energy, LLC, et al.

Filed Date: 7/28/21.

Accession Number: 20210728-5203.

Comments Due: 5 p.m. ET 8/18/21.

Docket Numbers: ER21-1844-001.

Applicants: PJM Interconnection, L.L.C.

Description: Compliance filing: Compliance Filing re Capital Recovery Factor Pursuant to July 2 Order to be effective 7/2/2021.

Filed Date: 7/30/21.

Accession Number: 20210730-5143.

Comments Due: 5 p.m. ET 8/20/21.

Docket Numbers: ER21-2118-001.

Applicants: Dodge Flat Solar, LLC.

Description: Tariff Amendment: Amendment to the Dodge Flat Solar, LLC Application for MBR Authority to be effective 8/10/2021.

Filed Date: 7/30/21.

Accession Number: 20210730-5032.

Comments Due: 5 p.m. ET 8/20/21.

Docket Numbers: ER21-2293-001.

Applicants: Fish Springs Ranch Solar, LLC.

Description: Tariff Amendment: Amend Fish Springs Ranch Solar, LLC Application for MBR Authorization to be effective 8/30/2021.

Filed Date: 7/30/21.

Accession Number: 20210730-5082.

Comments Due: 5 p.m. ET 8/20/21.

Docket Numbers: ER21-2556-000

Applicants: South River OnSite Generation, LLC.

Description: Baseline eTariff Filing: MBR Tariff Authority to be effective 10/1/2021.

Filed Date: 7/29/21.

Accession Number: 20210729-5105.

Comments Due: 5 p.m. ET 8/19/21.

Docket Numbers: ER21-2557-000.

Applicants: Aron Energy Prepay 5 LLC.

Description: Baseline eTariff Filing: Market-Based Rate Application to be effective 9/28/2021.

Filed Date: 7/29/21.

Accession Number: 20210729-5107.

Comments Due: 5 p.m. ET 8/19/21.

Docket Numbers: ER21-2558-000.

Applicants: New England Power Pool Participants Committee.

Description: § 205(d) Rate Filing: August 2021 Membership Filing to be effective 7/1/2021.

Filed Date: 7/30/21.

Accession Number: 20210730-5000.

Comments Due: 5 p.m. ET 8/20/21.

Docket Numbers: ER21-2559-000.

Applicants: Southwest Power Pool, Inc.

Description: § 205(d) Rate Filing: 3324R1 KPP and Sunflower Meter Agent Agreement to be effective 9/1/2021.

Filed Date: 7/30/21.

Accession Number: 20210730-5006.

Comments Due: 5 p.m. ET 8/20/21.

Docket Numbers: ER21-2560-000.

Applicants: Southwest Power Pool, Inc.

Description: § 205(d) Rate Filing: Revisions to Modify Uninstructed Resource Deviation Calculation to be effective 10/1/2021.

Filed Date: 7/30/21.

Accession Number: 20210730-5029.

Comments Due: 5 p.m. ET 8/20/21.

Docket Numbers: ER21-2561-000.

Applicants: Southwest Power Pool, Inc.

Description: § 205(d) Rate Filing: 1876R8 KEPCO NITSA NOA to be effective 7/1/2021.

Filed Date: 7/30/21.

Accession Number: 20210730-5033.

Comments Due: 5 p.m. ET 8/20/21.

Docket Numbers: ER21-2562-000.

Applicants: Southwest Power Pool, Inc.

Description: § 205(d) Rate Filing: Revisions to Definitive Interconnection System Impact Study Process to be effective 10/1/2021.

Filed Date: 7/30/21.

Accession Number: 20210730-5039.

Comments Due: 5 p.m. ET 8/20/21.

Docket Numbers: ER21-2563-000.

Applicants: NextEra Energy Transmission New York, Inc., New York Independent System Operator, Inc.

Description: § 205(d) Rate Filing: 205: NextEra Energy Formula Rate to be effective 9/30/2021.

Filed Date: 7/30/21.

Accession Number: 20210730-5040.

Comments Due: 5 p.m. ET 8/20/21.

Docket Numbers: ER21-2564-000.

Applicants: The Dayton Power and Light Company, PJM Interconnection, L.L.C.

Description: Compliance filing: Dayton Compliance Filing Pursuant to July 15, 2021 Order in Docket No. ER20-1068 to be effective 10/3/2020.

Filed Date: 7/30/21.

Accession Number: 20210730-5041.

Comments Due: 5 p.m. ET 8/20/21.

Docket Numbers: ER21-2565-000.

Applicants: Foote Creek II, LLC.

Description: Tariff Cancellation: Notice of Cancellation to be effective 7/31/2021.

Filed Date: 7/30/21.

Accession Number: 20210730-5049.

Comments Due: 5 p.m. ET 8/20/21.

Docket Numbers: ER21-2566-000.

Applicants: Foote Creek III, LLC.

Description: Tariff Cancellation: Notice of Cancellation to be effective 7/31/2021.

Filed Date: 7/30/21.

Accession Number: 20210730-5054.

Comments Due: 5 p.m. ET 8/20/21.

Docket Numbers: ER21-2567-000

Applicants: Foote Creek IV, LLC.

Description: Tariff Cancellation: Notice of Cancellation to be effective 7/31/2021.

Filed Date: 7/30/21.

Accession Number: 20210730-5056.

Comments Due: 5 p.m. ET 8/20/21.

Docket Numbers: ER21-2568-000.

Applicants: Public Service Company of New Hampshire.

Description: § 205(d) Rate Filing: Great Lakes Hydro American, LLC—Large Generator Interconnection Agreement to be effective 7/31/2021.

Filed Date: 7/30/21.

Accession Number: 20210730-5077.

Comments Due: 5 p.m. ET 8/20/21.

Docket Numbers: ER21-2568-000.

Applicants: Public Service Company of New Hampshire.

Description: § 205(d) Rate Filing: Great Lakes Hydro American, LLC—Large Generator Interconnection Agreement to be effective 7/31/2021.

Filed Date: 7/30/21.

Accession Number: 20210730-5078.

Comments Due: 5 p.m. ET 8/20/21.

Docket Numbers: ER21-2569-000.

Applicants: PJM Interconnection, L.L.C.

Description: § 205(d) Rate Filing: Amendment to WMPA, Service Agreement No. 5860; Queue No. AF2-099 to be effective 11/10/2020.

Filed Date: 7/30/21.

Accession Number: 20210730-5079.

Comments Due: 5 p.m. ET 8/20/21.

Docket Numbers: ER21-2570-000

Applicants: TC Energy Marketing Inc.

Description: Baseline eTariff Filing: Application for MBR Authorization and Request for Waivers and Blanket Approvals to be effective 9/30/2021.

Filed Date: 7/30/21.

Accession Number: 20210730-5090.

Comments Due: 5 p.m. ET 8/20/21.

Docket Numbers: ER21-2571-000.

Applicants: Midcontinent Independent System Operator, Inc., Consumers Energy Company, Michigan Electric Transmission Company, LLC.

Description: § 205(d) Rate Filing: 2021-07-30_SA 3315 METC-CE TSA Amendment Group A to be effective 9/30/2021.

Filed Date: 7/30/21.

Accession Number: 20210730-5098.

Comments Due: 5 p.m. ET 8/20/21.

Docket Numbers: ER21-2572-000.

Applicants: Tri-State Generation and Transmission Association, Inc.

Description: Tariff Cancellation: Notice of Cancellation of Rate Schedule FERC No. 239 to be effective 9/30/2021.

Filed Date: 7/30/21.

Accession Number: 20210730-5103.

Comments Due: 5 p.m. ET 8/20/21.

Docket Numbers: ER21-2573-000.

Applicants: HollyFrontier Puget Sound Refining LLC.

Description: Baseline eTariff Filing: Market-Based Rate Tariff to be effective 11/1/2021.

Filed Date: 7/30/21.

Accession Number: 20210730-5108.

Comments Due: 5 p.m. ET 8/20/21.

Docket Numbers: ER21-2574-000.

Applicants: Arizona Public Service Company.

Description: § 205(d) Rate Filing: Rate Schedule No. 211 Amendments to be effective 9/29/2021.

Filed Date: 7/30/21.

Accession Number: 20210730-5110.

Comments Due: 5 p.m. ET 8/20/21.

Docket Numbers: ER21-2575-000.

Applicants: Duke Energy Carolinas, LLC.

Description: § 205(d) Rate Filing: DEC- CEPCI NITSA SA-447 to be effective 7/1/2021.

Filed Date: 7/30/21.

Accession Number: 20210730-5112.

Comments Due: 5 p.m. ET 8/20/21.

Docket Numbers: ER21-2576-000.

Applicants: Midcontinent Independent System Operator, Inc.

Description: § 205(d) Rate Filing: 2021-07-30_RPU Attachment O Filing to be effective 10/1/2021.

Filed Date: 7/30/21.

Accession Number: 20210730-5116.

Comments Due: 5 p.m. ET 8/20/21.

Docket Numbers: ER21-2577-000.

Applicants: Arizona Public Service Company.

Description: § 205(d) Rate Filing: CBR Tariff Revision to be effective 9/29/2021.

Filed Date: 7/30/21.

Accession Number: 20210730-5123.

Comments Due: 5 p.m. ET 8/20/21.

Docket Numbers: ER21-2578-000.

Applicants: Duke Energy Progress, LLC.

Description: Tariff Cancellation: DEP-CPI SA No. 238 Cancellation to be effective 9/30/2021.

Filed Date: 7/30/21.

Accession Number: 20210730-5138.

Comments Due: 5 p.m. ET 8/20/21.

Docket Numbers: ER21-2579-000.

Applicants: EDF Trading North America, LLC.

Description: Application to Recover Fuel Procurement Costs of EDF Trading North America LLC.

Filed Date: 7/29/21.

Accession Number: 20210729-5184.

Comments Due: 5 p.m. ET 8/19/21.

Docket Numbers: ER21-2580-000.

Applicants: Duke Energy Carolinas, LLC.

Description: § 205(d) Rate Filing: DEC-CEPCI SA-448 Metering Agreement to be effective 7/1/2021.

Filed Date: 7/30/21.

Accession Number: 20210730-5160.

Comments Due: 5 p.m. ET 8/20/21.

Docket Numbers: ER21-2581-000.

Applicants: Southwest Power Pool, Inc.

Description: § 205(d) Rate Filing: City of Independence Stated Rate Filing to be effective 10/1/2021.

Filed Date: 7/30/21.

Accession Number: 20210730-5164.

Comments Due: 5 p.m. ET 8/20/21.

Docket Numbers: ER21-2582-000.

Applicants: PJM Interconnection, L.L.C.

Description: § 205(d) Rate Filing: Revisions to Application of Minimum Offer Price Rule (MOPR) to be effective 9/28/2021.

Filed Date: 7/30/21.

Accession Number: 20210730-5166.

Comments Due: 5 p.m. ET 8/20/21.

Take notice that the Commission received the following electric securities filings:

Docket Numbers: ES21-55-000; ES21-56-000; ES21-57-000; ES21-58-000; ES21-59-000.

Applicants: AEP Generating Company, Kentucky Power Company, Kingsport Power Company, Southwestern Electric Power Company, Wheeling Power Company.

Description: Application Under Section 204 of the Federal Power Act for Authorization to Issue Securities of AEP Generating Company, et al.

Filed Date: 7/30/21.

Accession Number: 20210730-5163.

Comments Due: 5 p.m. ET 8/20/21.

Docket Numbers: ES21-60-000.

Applicants: Southwest Power Pool, Inc.

Description: Application Under Section 204 of the Federal Power Act for Authorization to Issue Securities of Southwest Power Pool, Inc.

Filed Date: 7/30/21.

Accession Number: 20210730-5172.

Comments Due: 5 p.m. ET 8/20/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 30, 2021.
Debbie-Anne A. Reese,
Deputy Secretary.

[FR Doc. 2021-16722 Filed 8-4-21; 8:45 am]

BILLING CODE 6717-01-P